DEPARTMENT OF TRANSPORTATION

National Highway Traffic Safety Administration

[Docket No. NHTSA-2021-0012]

Agency Information Collection Activities; Submission to the Office of Management and Budget for Review and Approval; Request for Comment; Fatal Crash Seat Belt Use Reporting and Awareness

AGENCY: National Highway Traffic Safety Administration (NHTSA), Department of Transportation (DOT).

ACTION: Notice and request for comments on a request for approval of a new information collection.

SUMMARY: In compliance with the Paperwork Reduction Act of 1995 (PRA), this notice announces that the Information Collection Request (ICR) abstracted below will be submitted to the Office of Management and Budget (OMB) for review and approval. The ICR describes the nature of the information collection and its expected burden. This document describes a new collection of information for which NHTSA intends to seek OMB approval on Fatal Crash Seat Belt Use Reporting and Awareness, a one-time voluntary experiment to understand whether the inclusion of seat belt status in a fatal crash news report could affect seat belt use. A Federal Register notice with a 60-day comment period soliciting comments on the following information collection was published on September 28, 2021. No comments were received.

DATES: Comments must be submitted on or before April 25, 2022.

ADDRESSES: Written comments and recommendations for the proposed information collection, including suggestions for reducing burden, should be submitted to the Office of Management and Budget at www.reginfo.gov/public/do/PRAMain. To find this particular information collection, select “Currently under Review—Open for Public Comment” or use the search function.

FOR FURTHER INFORMATION CONTACT: For additional information or access to background documents, contact Jordan A. Blenner, JD, Ph.D., Office of Behavioral Safety Research (NPD-320), (202) 366-9982, National Highway Traffic Safety Administration, W46-470, U.S. Department of Transportation, 1200 New Jersey Avenue SE, Washington, DC 20590.

SUPPLEMENTARY INFORMATION: Under the PRA (44 U.S.C. 3501 et seq.), a Federal agency must receive approval from the Office of Management and Budget (OMB) before it collects certain information from the public and a person is not required to respond to a collection of information by a Federal agency unless the collection displays a valid OMB control number. In compliance with these requirements, this notice announces that the following information collection request will be submitted OMB.

A Federal Register notice with a 60-day comment period soliciting public comments on the following information collection was published on September 28, 2021. No comments were received.

Title: Fatal Crash Seat Belt Use Reporting and Awareness.

OMB Control Number: New.

Form Numbers: NHTSA Forms 1599, 1600, 1601, and 1604.

Type of Request: Approval of a new information collection.

Type of Review Requested: Regular.

Length of Approval Requested: Three years from date of approval.

Summary of the Collection of Information: The National Highway Traffic Safety Administration (NHTSA) of the U.S. Department of Transportation is seeking approval to collect information from 1,500 participants from two seat belt user groups, 750 who are full-time and 750 who are occasional or non-users, for a one-time voluntary experiment to understand whether the inclusion of seat belt status in a fatal crash news report could affect seat belt use. NHTSA will contact a sample of 20,850 potential participants from a marketing research firm's panel with an invitation email and screening questions to identify adult volunteers who regularly drive a passenger vehicle. Recruiting participants for the experiment has an estimated burden of 348 hours for the invitation email and 70 hours for the screening questions. (An estimated 20% of the invited potential participants will be interested in participating in the study and will complete the screener form, i.e., 4,170 potential participants.) An estimated 1,668 potential participants will read the consent form with an estimated burden of 139 hours. The 1,500 participants will complete the experiment with an estimated burden of 500 hours. The experiment involves a 40-question online survey that participants will complete in their own homes using their personal computers. Participants will read one of three fictitious news reports of crashes (some of which involve fatalities) to gauge whether including seat belt use in news reports has the potential to increase belt use by occasional and non-seat belt users. After reading the news report, participants will report their recollection of belt use in the news report they read, self-reported seat belt use, intentions to use belts, attitudes about seat belts, and demographic information. The total estimated burden associated with reporting is 1,057 hours. The collection does not involve recordkeeping or disclosure. An approved Institutional Review Board (IRB), Advarra, has reviewed the study and determined that the research project is exempt from IRB oversight. NHTSA will summarize the results of the collection using aggregate statistics in a final report to be distributed to NHTSA program and regional offices, State Highway Safety Offices, and other traffic safety stakeholders. This collection will inform the development of countermeasures, particularly in the areas of communications and outreach, for increasing seat belt use and reducing fatalities and injuries associated with the lack of seat belt use.

Description of the Need for the Information and Proposed Use of the Information: NHTSA's mission is to reduce deaths, injuries, and economic losses resulting from motor vehicle crashes on the Nation's highways. To further this mission, NHTSA conducts research for the development of traffic safety programs. Title 23, United States Code, Section 403, gives the Secretary of Transportation (NHTSA by delegation) authorization to use funds appropriated to conduct research and development activities, including demonstration projects and the collection and analysis of highway and motor vehicle safety data and related information, with respect to all aspects of highway and traffic safety systems and conditions relating to vehicle, highway, driver, passenger, motorcyclist, bicyclist, and pedestrian characteristics; accident causation and investigations; and human behavioral factors and their effect on highway and traffic safety.

In 2019, 22,215 occupants of passenger vehicles (passenger cars, pickup trucks, vans, and SUVs) died in motor vehicle crashes in the United States. Of those killed where restraint status was known, 47% were unrestrained at the time of the fatal crash. NHTSA estimates that seat belts saved the lives of 14,955 passenger vehicle occupants age 5 and older in 2017 (latest data available), and, if all passenger vehicle occupants age 5 and older had worn seat belts, an additional 2,549 lives could have been saved.¹

¹ National Center for Statistics and Analysis. (September 2021). Occupant protection in passenger vehicles: 2019 data (Traffic Safety Facts. Report No. DOT HS 813 176). National Highway Traffic Safety Administration. https://crashstats.nhtsa.dot.gov/Api/Public/ViewPublication/813176.

This project supports NHTSA's efforts to increase occupant protection by examining factors related to seat belt use. Previous research in this area indicated that news organizations may not report seat belt use in many of the driving fatalities they cover.² That said, the research conducted previously involved data from 1999 through 2002, which may be out of date with current practices. Many stakeholders assume that increased reporting of seat belt usage in fatal crashes, especially when seat belts were not worn, could increase seat belt use. In addition, when seat belt status has been reported in a news report, it is not clear individuals are paying attention. Improving awareness of seat belt status, particularly involving unbelted fatalities, may be an effective countermeasure that may encourage individuals to wear seat belts.

² Connor, S.M., & Wesolowski, K. (2004). Newspaper framing of fatal motor vehicle crashes in four Midwestern cities in the United States, 1999-2000. Inj Prev. 10(3),149-153. http://dx.doi.org/10.1136/ip.2003.003376.

Rosales, M., & Stallones, L. (2008). Coverage of motor vehicle crashes with injuries in U.S. newspapers, 1999-2002. Journal of Safety Research, 39(5), 477-82. https://doi.org/10.1016/j.jsr.2008.08.001.

The information from this collection will assist NHTSA in (a) planning seat belt program activities; (b) supporting groups involved in improving public safety; and (c) identifying countermeasure strategies that are most acceptable and effective in increasing seat belt use.

Affected Public: Participants will be U.S. adults (18 years and older, except for those from Nebraska or Alabama (who will need to be 19 years or older), or those from Mississippi (who will need to be 21 years or older)) with fluency in reading and writing in English, who have driven a passenger vehicle (car, van, SUV, or pickup truck) at least once in the past month, and whose main form of transportation is a passenger vehicle.

Estimated Number of Respondents: 20,850 total respondents, with 1,500 participating in the full experiment.

The experiment will invite up to 20,850 people to participate. The number of invitations is based on the need to recruit 1,500 participants, 750 of whom are either non- or part-time seat belt users. Based on corporate experience with online panels, the marketing research firm providing access to their panel of participants estimates a participation rate of 20%. Furthermore, NHTSA research has shown that while most drivers reported wearing their seat belts every time they drive, approximately 20% are either non-users or part-time users.³ Finally, NHTSA estimates that 90% who qualify and read the consent form will provide consent and complete the study. To obtain a sample of 750 consenting participants in the non/part user group, requires a universe of 20,850 potential respondents. Of the 20,850 invited panelists, we expect 20% or 4,170 volunteers who are interested and qualify. Of the 4,170 who are interested, we expect 20% or 834 volunteers will be non- or part-time seat belt users. Of the 834 volunteers who are non- or part-time seat belt users, we expect 90% or 750 to consent and complete the study. The marketing research firm will provide a link to the consent form to the first 834 non- or part-time seat belt users and to the first 834 full-time seat belt users who are interested and qualify. (Once the firm reaches 750 completions from full-time users, which is expected to occur before the 750 completions from non- or part-time users, they will no longer provide links to the informed consent to qualified full-time users.)

³ National Highway Traffic Safety Administration. (2019, December). The 2016 motor vehicle occupant safety survey: Seat belt report (Report No. DOT HS 812 798). Author. https://rosap.ntl.bts.gov/view/dot/43608.

Frequency: This study is a one-time information collection, and there will be no recurrence.

Estimated Total Annual Burden Hours: 1,057.

The total estimated burden associated with this collection is 1,057 hours. The sample of potential participants will receive an email invitation from Schlesinger Group, a marketing research firm that specializes in providing sampling pools of panelists, with screening questions to determine eligibility. The 20,850 potential participants are expected to spend 1 minute each in reading the invitation email for an estimated 348 hours. Those who are interested (estimated to be 20%, or 4,170 individuals) are expected to spend 1 minute each in completing the screener form for an estimated 70 hours. Schlesinger will provide electronic links to the consent form to the first 834 full-time seat belt users and to the first 834 part-time/non-users who qualify based on the screening questions. The 1,668 eligible participants are expected to spend 5 minutes each reading and completing the consent form for an estimated 139 hours. The estimated 1,500 consenting participants will each spend 20 minutes completing the experiment for an estimated 500 hours. The total burden is the sum of the burden across the invitation/screening, consenting, and completing the experiment for a total estimate of 1,057 hours. The details are presented in Table 1 below.

Table 1—Estimated Burden Hours by Form
Form | Description | Participants | Estimated minutes per participant | Total estimated burden hours per form
Form 1599 | Invitation Email | 20,850 | 1 | 348
Form 1604 | Screener Form | 4,170 | 1 | 70
Form 1600 | Informed Consent Form | 1,668 | 5 | 139
Form 1601 | Experiment Form | 1,500 | 20 | 500
Total |  |  |  | 1,057

Estimated Total Annual Burden Cost: NHTSA estimates that there are no costs to respondents beyond the time spent participating in the study.

Public Comments Invited: You are asked to comment on any aspects of this information collection, including (a) whether the proposed collection of information is necessary for the proper performance of the functions of the agency, including whether the information will have practical utility; (b) the accuracy of the agency's estimate of the burden of the proposed collection of information, including the validity of the methodology and assumptions used; (c) ways to enhance the quality, utility and clarity of the information to be collected; and (d) ways to minimize the burden of the collection of information on respondents, including the use of appropriate automated, electronic, mechanical, or other technological collection techniques or other forms of information technology, e.g., permitting electronic submission of responses.

Authority: The Paperwork Reduction Act of 1995; 44 U.S.C. chapter 35, as amended; 49 CFR 1.49; and DOT Order 1351.29.

Issued in Washington, DC.
Nanda Narayanan Srinivasan,
Associate Administrator, Research and Program Development.

[FR Doc. 2022-06260 Filed 3-23-22; 8:45 am]

BILLING CODE 4910-59-P